ENVIRONMENTAL PROTECTION AGENCY

40 CFR Part 721

[EPA-HQ-OPPT-2014-0760; FRL-9919-23]

RIN 2070-AB27

Proposed Significant New Use Rule on Certain Chemical Substances

AGENCY: Environmental Protection Agency (EPA).

ACTION: Proposed rule.

SUMMARY: EPA is proposing significant new use rules (SNURs) under the Toxic Substances Control Act (TSCA) for 13 chemical substances which were the subject of premanufacture notices (PMNs). This action would require persons who intend to manufacture (including import) or process any of the chemical substances for an activity that is designated as a significant new use by this proposed rule to notify EPA at least 90 days before commencing that activity. The required notification would provide EPA with the opportunity to evaluate the intended use and, if necessary, to prohibit or limit the activity before it occurs.

DATES: Comments must be received on or before March 9, 2015.

ADDRESSES: Submit your comments, identified by docket identification (ID) number EPA-HQ-OPPT-2014-0760, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Kenneth Moss, Chemical Control Division, Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture, process, or use the chemical substances contained in this proposed rule. The following list of North American Industrial Classification System (NAICS) codes is not intended to be exhaustive, but rather provides a guide to help readers determine whether this document applies to them. Potentially affected entities may include:

• Manufacturers (including importers) or processors of one or more subject chemical substances (NAICS codes 325 and 324110), e.g., chemical manufacturing and petroleum refineries.

This action may also affect certain entities through pre-existing import certification and export notification rules under TSCA. Chemical importers are subject to the TSCA section 13 (15 U.S.C. 2612) import certification requirements promulgated at 19 CFR 12.118 through 12.127; see also 19 CFR 127.28. Chemical importers must certify that the shipment of the chemical substance complies with all applicable rules and orders under TSCA. Importers of chemical substances subject to a final SNUR must certify their compliance with the SNUR requirements. The EPA policy in support of import certification appears at 40 CFR part 707, subpart B. In addition, any persons who export or intend to export a chemical substance that is the subject of this final rule are subject to the export notification provisions of TSCA section 12(b) (15 U.S.C. 2611(b)) (see 40 CFR 721.20), and must comply with the export notification requirements in 40 CFR part 707, subpart D.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background

A. What action is the agency taking?

EPA is proposing these SNURs under TSCA section 5(a)(2) for 13 chemical substances which were the subject of PMNs P-13-270, P-13-365, P-13-392, P-13-393, P-13-471, P-13-563, P-13-617, P-13-618, P-13-619, P-14-60, P-14-267, P-14-268, and P-14-478. These SNURs would require persons who intend to manufacture or process any of these chemical substances for an activity that is designated as a significant new use to notify EPA at least 90 days before commencing that activity. In the Federal Register publications of February 12, 2014 (79 FR 8273) (FRL-9903-70), July 8, 2014 (79 FR 38464) (FRL-9911-05), and July 9, 2014 (79 FR 39268) (FRL-9910-01), EPA issued direct final SNURs on ten of these 13 chemical substances, which are the subject of PMNs P-13-365, P-13-392, P-13-393, P-13-471, P-13-270, P-13-563, P-13-617, P-13-618, P-13-619, and P-14-60 in accordance with the procedures at § 721.160(c)(3)(i). EPA received notices of intent to submit adverse comments on these SNURs. Therefore, as required by § 721.160(c)(3)(ii), EPA removed the direct final SNURs in separate final rules published in the Federal Register of April 14, 2014 (71 FR 20800) (FRL-9909-25) and September 4, 2014 (79 FR 52563) (FRL-9915-69), and is now issuing this proposed rule on these ten chemical substances. The records for the direct final SNURs on these ten chemical substances were established as dockets EPA-HQ-OPPT-2013-0739, EPA-HQ-OPPT-2014-0166, and EPA-HQ-OPPT-2014-0277. Those records include information considered by the Agency in developing the direct final rule. Adverse comments received regarding these substances and the direct final rule are discussed in Unit IV. This proposed rule also includes three SNURs for the three chemicals which are the subject of PMNs, P-14-267, P-14-268, and P-14-478 and for which there has not been any previous rulemaking. The record for the SNURs on these three chemicals was established as docket EPA-HQ-OPPT-2014-0760. That record includes information considered by the Agency in developing these three proposed SNURs.

B. What is the agency's authority for taking this action?

Section 5(a)(2) of TSCA (15 U.S.C. 2604(a)(2)) authorizes EPA to determine that a use of a chemical substance is a “significant new use.” EPA must make this determination by rule after considering all relevant factors, including the four bulleted TSCA section 5(a)(2) factors listed in Unit III. Once EPA determines that a use of a chemical substance is a significant new use, TSCA section 5(a)(1)(B) requires persons to submit a significant new use notice (SNUN) to EPA at least 90 days before they manufacture or process the chemical substance for that use. Persons who must report are described in § 721.5.

C. Applicability of General Provisions

General provisions for SNURs appear in 40 CFR part 721, subpart A. These provisions describe persons subject to the rule, recordkeeping requirements, exemptions to reporting requirements, and applicability of the rule to uses occurring before the effective date of the final rule. Provisions relating to user fees appear at 40 CFR part 700. According to 40 CFR 721.1(c), persons subject to these SNURs must comply with the same notice requirements and EPA regulatory procedures as submitters of PMNs under TSCA section 5(a)(1)(A). In particular, these requirements include the information submission requirements of TSCA sections 5(b) and 5(d)(1), the exemptions authorized by TSCA sections 5(h)(1), (h)(2), (h)(3), and (h)(5), and the regulations at 40 CFR part 720. Once EPA receives a SNUN, EPA may take regulatory action under TSCA section 5(e), 5(f), 6, or 7 to control the activities for which it has received the SNUN. If EPA does not take action, EPA is required under TSCA section 5(g) to explain in the Federal Register its reasons for not taking action.

III. Significant New Use Determination

Section 5(a)(2) of TSCA states that EPA's determination that a use of a chemical substance is a significant new use must be made after consideration of all relevant factors, including:

• The projected volume of manufacturing and processing of a chemical substance.

• The extent to which a use changes the type or form of exposure of human beings or the environment to a chemical substance.

• The extent to which a use increases the magnitude and duration of exposure of human beings or the environment to a chemical substance.

• The reasonably anticipated manner and methods of manufacturing, processing, distribution in commerce, and disposal of a chemical substance.

In addition to these factors enumerated in TSCA section 5(a)(2), the statute authorized EPA to consider any other relevant factors.

To determine what would constitute a significant new use for the chemical substances that are the subject of these SNURs, EPA considered relevant information about the toxicity of the chemical substances, likely human exposures and environmental releases associated with possible uses, taking into consideration the four bulleted TSCA section 5(a)(2) factors listed in this unit.

IV. Substances Subject to This Proposed Rule

EPA is proposing significant new use and recordkeeping requirements for 13 chemical substances in 40 CFR part 721, subpart E. In this unit, EPA provides the following information for each chemical substance:

• PMN number.

• Chemical name.

• Chemical Abstracts Service (CAS) Registry number (assigned for non-confidential chemical identities).

• Public comments and EPA's response to comments on the ten direct final SNURs subject to PMNs, P-13-365, P-13-392, P-13-393, P-13-471, P-13-270, P-13-563, P-13-617, P-13-618, P-13-619, and P-14-60.

• Tests recommended by EPA to provide sufficient information to evaluate the chemical substance (see Unit VII. for more information).

• CFR citation assigned in the regulatory text section of this proposed rule.

The regulatory text section of this proposed rule specifies the activities designated as significant new uses. Certain new uses, including production volume limits (i.e., limits on manufacture volume) and other uses designated in this proposed rule, may be claimed as CBI.

PMN Number P-13-270

Chemical name: Aromatic dibenzoate (generic).

CAS number: Claimed confidential.

Public comment: A notice of intent to adversely comment has been submitted.

EPA response: EPA awaits the adverse comment during the open comment period for this notice of proposed rule-making.

Basis for action: The PMN states that the generic (non-confidential) use of the substance is as a catalyst component. Based on structural activity relationship (SAR) analysis of test data on analogous esters, EPA predicts chronic toxicity to aquatic organisms may occur at concentrations that exceed 1 ppb of the PMN substance in surface waters. Based on uses described in the PMN, releases of the substance are not expected to result in surface water concentrations that exceed 1 ppb. Therefore, EPA has not determined that the proposed manufacturing, processing, or use of the substance may present an unreasonable risk. EPA has determined, however, that should there be any new use of the substance resulting in releases to surface waters exceeding 1 ppb significant adverse environmental effects could occur. Based on this information, the PMN substance meets the concern criteria at § 721.170(b)(4)(ii).

Recommended testing: EPA has determined that the results of a sediment-water chironomid life-cycle toxicity test using spiked water or spiked sediment (OECD Test Guideline 233); a hydrolysis test (OECD Test Guideline 111); and a Zahn-Wellens inherent biodegradation test (OECD Test Guideline 302B) would help characterize the potential for environmental effects of the PMN substance. EPA also recommends that the guidance document on aquatic toxicity testing of difficult substances and mixtures (OECD Test Guideline 23) be followed to facilitate solubility in the test media, because of the PMN substance's low water solubility.

CFR citation: 40 CFR 721.10735.

PMN Number P-13-365

Chemical name: MDI modified polyalkene glycols (generic).

CAS number: Not available.

1. Public comment: One commenter claimed SNUR requirements associated with P-13-365 for respiratory protection, record-keeping, and hazard communication are difficult to understand and implement and they add another layer of complexity for potential customers. Customers are likely to choose existing adhesive system chemicals with no or fewer SNUR requirements which may have greater risk potential to avoid having to comply with the SNUR requirements of P-13-365 and similar new chemicals.

1. EPA response: The proposed SNUR does not contain significant new use reporting requirements pertaining to hazard communication. EPA has issued numerous SNURs with similar recordkeeping and worker protection requirements that other manufacturers and processors have complied with and implemented. The comment period for the proposed rule is an opportunity to provide more detail on specific issues or challenges posed by the proposed SNUR reporting requirements, as well as potential suggestions for EPA to better clarify those requirements. Unless EPA receives specific, quantitative information that demonstrates the chemical substances subject to these proposed SNURs exhibit a lower potential for the hazards and risks described in the proposed SNUR or that they will specifically replace a chemical substance with a higher potential for hazards and risks, EPA would expect to issue the SNUR as proposed to provide the Agency with the opportunity to review any new uses for potential unreasonable risks. As described in the Agency's ongoing Action Plan for MDI and TDI, diisocyanates are well-known dermal and inhalation sensitizers in the workplace and have been documented to cause asthma, lung damage, and in severe cases, fatal reactions. EPA is concerned about potential health effects that may result from exposures of consumers or self-employed workers while using products containing uncured (unreacted) MDI and TDI and its related polyisocyanates (e.g., spray-applied foam sealants, adhesives, and coatings) or incidental exposures to the general population while such products are used in or around buildings including homes or schools. While workers may already be using protective controls in occupational settings, due to the nature of the potential risk posed by these chemicals, EPA believes it is prudent to emphasize its concern through respiratory protection requirements where there is potential for inhalation exposure, in addition to proposing significant new uses such as consumer use and application method. Accordingly, the regulatory action for new diisocyanates reflects EPA's policy of consistent treatment of the entire class of potentially hazardous chemicals, regardless of their statutory status as “new” or “existing” chemicals. EPA continues to work to lessen the apparent inequity between regulations of new and existing chemicals.

2. Public comment: The same commenter questioned whether EPA's basis for adverse human health concerns stem from the residual diisocyanate monomer or the P-13-365 substance. The P-13-365 substance is not expected to be volatile under any use.

2. EPA response: The basis for EPA's health concern is for the P-13-365 substance which includes the presence of any residual diisocyanate monomer. In addition, EPA finds that there are unreacted isocyanate groups in the polymer and that there is a significant percentage of the polymer with molecular weight below 1,000. EPA agrees that the higher molecular weight components of the P-13-365 substance are not expected to be volatile. The residual diisocyanate monomer is expected to be volatile and lower molecular components could be volatile resulting in a higher potential for exposure.

3. Public comment: The same commenter proposes that instead of recommending the 90-day inhalation toxicity test (OPPTS Test Guideline 870.3465) to characterize the human health effects of the P-13-365 substance, EPA should consider a Differential Scanning Calorimetric or Thermogravimetric Analysis of the PMN substance to assess vaporization potential. The 90-day inhalation toxicity test would require delivery of the PMN substance as a mist or aerosol which the associated SNUR prohibits. In addition, the results of the test may be heavily influenced by the residual diisocyanate and not exhibit effects from the PMN substance itself.

3. EPA response: In the “Recommended testing” section, the 90-day inhalation toxicity and the dermal sensitization tests, are listed as an appropriate way to characterize potential health effects. EPA will consider any other testing, data, or information that would be relevant to assessing potential health effects. The proposed SNUR would require notification if a method was used that generates a mist or aerosol. Conducting the 90-day inhalation toxicity test could address the potential lung effects and respiratory sensitization if a significant new use notice was submitted to EPA. As stated in the response to comment 2, EPA is concerned about the health effects of any residual monomer as well as unreacted isocyanate groups on the polymer.

Basis for action: The PMN states that the generic (non-confidential) use of the substance will be as an adhesive component. Based on test data on analogous diisocyanates, EPA identified concerns for dermal and respiratory sensitization, and lung and mucous membrane irritation effects. For the use described in the PMN, EPA does not expect significant occupational or any consumer inhalation exposure due to the use of adequate personal protective equipment and because the substance is not applied using a method that generates a vapor, mist, or aerosol nor is it used in a consumer product. Therefore, EPA has not determined that the proposed manufacturing, processing, or use of the substance may present an unreasonable risk. EPA has determined, however, that any use of the substance without a NIOSH-certified particulate respirator (with eye/face protection, when dermal and/or ocular exposure is likely) with an APF of at least 10, where there is a potential for inhalation exposure; any use of the substance in consumer products; or any use of the substance involving an application method that generates a vapor, mist, or aerosol, may cause serious health effects. Based on this information, the PMN substance meets the concern criteria at § 721.170(b)(3)(ii).

Recommended testing: EPA has determined that the results of a skin sensitization test (OPPTS Test Guideline 870.2600) and a 90-day inhalation toxicity test (OPPTS Test Guideline 870.3465) would help characterize the human health effects of the PMN substance.

CFR citation: 40 CFR 721.10717.

PMN Number P-13-392

Chemical name: Acrylic acid esters polymers, reaction products with polyisocyanate (generic).

CAS number: Not available.

Public comment: A notice of intent to adversely comment has been submitted.

EPA response: EPA awaits the adverse comment during the open comment period for this notice of proposed rule-making.

Basis for action: The PMN states that the generic (non-confidential) use of the substance will be for wood, plastic, and automotive paint material. Based on test data on analogous diisocyanates, EPA identified concerns for dermal and respiratory sensitization, lung and mucous membrane irritation, and lung effects if inhaled based on the low molecular weight isocyanates. As described in the PMN, worker inhalation exposure is not expected and dermal exposure will be minimal due to the use of adequate personal protective equipment and consumer exposure is not expected because the substance will not be used in consumer products. Therefore, EPA has not determined that the proposed manufacturing, processing, or use of the substance may present an unreasonable risk. EPA has determined, however, that any use of the substance without a NIOSH-certified particulate respirator (with eye/face protection, when dermal and/or ocular exposure is likely) with an APF of at least 10, where there is a potential for inhalation exposure, or any use of the PMN substance in a consumer product, may cause serious health effects. Based on this information, the PMN substance meets the concern criteria at § 721.170(b)(3)(ii).

Recommended testing: EPA has determined that the results of a skin sensitization test (OPPTS Test Guideline 870.2600) and a 90-day inhalation toxicity test (OPPTS Test Guideline 870.3465) would help characterize the human health effects of the PMN substance.

CFR citation: 40 CFR 721.10719.

PMN Number P-13-393

Chemical name: 1,3-Benzenedicarboxylic acid, polymer with 1,4-benzenedicarboxylic acid, 1,4-dimethyl 1,4-benzenedicarboxylate, 2,2-dimethyl-1,3-propanediol,dodecanedioic acid, 1,2-ethanediol, hexanedioic acid, 1,6-hexanediol, alkyldiol ester and aromatic isocyanate (generic).

CAS number: Not available.

Public comment: A notice of intent to adversely comment has been submitted.

EPA response: EPA awaits the adverse comment during the open comment period for this notice of proposed rule-making.

Basis for action: The PMN states that the generic (non-confidential) use of the substance will be as an industrial adhesive. Based on test data on analogous diisocyanates, the Agency identified concerns for dermal and respiratory sensitization, lung and mucous membrane irritation, and lung effects if inhaled based on the low molecular weight isocyanates. For the use described in the PMN, EPA does not expect significant occupational or any consumer inhalation exposure due to the use of adequate personal protective equipment and because the substance is not applied using a method that generates a vapor, mist, or aerosol nor is the substance used in a consumer product. Therefore, EPA has not determined that the proposed manufacturing, processing, or use of the substance may present an unreasonable risk. EPA has determined, however, that any use of the substance without a NIOSH-certified particulate respirator (with eye/face protection, when dermal and/or ocular exposure is likely) with an APF of at least 10, where there is a potential for inhalation exposure; any use of the substance in consumer products; or any use of the substance involving an application method that generates a vapor, mist, or aerosol, may cause serious health effects. Based on this information, the PMN substance meets the concern criteria at § 721.170(b)(3)(ii).

Recommended testing: EPA has determined that the results of a skin sensitization test (OPPTS Test Guideline 870.2600) and a 90-day inhalation toxicity test (OPPTS Test Guideline 870.3465) would help characterize the human health effects of the PMN substance.

CFR citation: 40 CFR 721.10720.

PMN Number P-13-471

Chemical name: Methylene diisocyanate polymer with polypropylene glycol and diols (generic).

CAS number: Not available.

Public comment: A notice of intent to adversely comment has been submitted.

EPA response: EPA awaits the adverse comment during the open comment period for this notice of proposed rule-making.

Basis for action: The PMN states that the generic (non-confidential) use of the substance will be as an industrial adhesive. Based on test data on analogous diisocyanates, EPA identified concerns for oncogenicity, mutagenicity, respiratory and dermal sensitization, and lung and mucous membrane irritation. As described in the PMN, worker inhalation exposure is not expected and dermal exposure will be minimal due to the use of adequate personal protective equipment, and consumer exposure is not expected because the substance will not be used in consumer products. Therefore, EPA has not determined that the proposed manufacturing, processing, or use of the substance may present an unreasonable risk. EPA has determined, however, that any use of the substance without a NIOSH-certified particulate respirator (with eye/face protection, when dermal and/or ocular exposure is likely) with an APF of at least 10, where there is a potential for inhalation exposure or the use of the substance in a consumer product, may cause serious health effects. Based on this information, the PMN substance meets the concern criteria at § 721.170(b)(1)(i)(C) and (b)(3)(ii).

Recommended testing: EPA has determined that the results of a skin sensitization test (OPPTS Test Guideline 870.2600), a 90-day inhalation toxicity test (OPPTS Test Guideline 870.3465) would help characterize the human health effects of the PMN substance, and a carcinogenicity test (OPPTS Test Guideline 870.4200) would help characterize the human health effects of the PMN substance.

CFR citation: 40 CFR 721.10723.

PMN Number P-13-563

Chemical name: Propylene glycol, alpha isocyanate, omega silane (generic).

CAS number: Claimed confidential.

Public comment: A notice of intent to adversely comment has been submitted.

EPA response: EPA awaits the adverse comment during the open comment period for this notice of proposed rule-making.

Basis for action: The PMN states that the generic (non-confidential) use of the substance will be as a chemical intermediate for polyurethane polymers. Based on test data on analogous diisocyanates, EPA identified concerns for oncogenicity, mutagenicity, respiratory and dermal sensitization and lung and mucous membrane irritation. For the use described in the PMN, EPA does not expect significant occupational or any consumer exposure. Therefore, EPA has not determined that the proposed manufacturing, processing, or use of the substance may present an unreasonable risk. EPA has determined, however, that any use of the substance without a NIOSH-certified particulate respirator (with eye/face protection, when dermal and/or ocular exposure is likely) with an APF of at least 10, where there is a potential for inhalation exposure; any use other than as an intermediate; or any use of the substance in consumer products, may cause serious health effects. Based on this information, the PMN substance meets the concern criteria at § 721.170(b)(1)(i)(C) and (b)(3)(ii).

Recommended testing: EPA has determined that the results of a skin sensitization test (OPPTS Test Guideline 870.2600); a 90-day inhalation toxicity test (OPPTS Test Guideline 870.3465); and a carcinogenicity test (OPPTS Test Guideline 870.4200) would help characterize the human health effects of the PMN substance.

CFR citation: 40 CFR 721.10741.

PMN Numbers P-13-617, P-13-618, and P-13-619

Chemical names: (P-13-617) Aromatic dicarboxylic acid polymer with alkanediol, alkyl alkyl-2-alkenoate,1,4-dialkyl aromatic dicarboxylate, alkanedioic acid, alkanediol, .alpha.-hydro-.omega.-hydroxypoly[oxy(alkylalkanediyl)],hydroxyalkyl 2-alkyl-2-alkenoate, aromatic diisocyanate, alkyl-2-alkyl-2-alkenoate and 2-alkyl-2-alkenoic acid (generic), (P-13-618) Alkanedioic acid, polymer with alkyl 2-alkyl-2-alkenoate, alkanedioic acid, alkanediol, .alpha.-hydro-.omega.-hydroxypoly[oxy(alkyl-1 2-alkanediyl)], hydroxyalkyl 2-alkyl-2-alkenoate, aromatic diisocyanate, alkyl 2-alkyl-2-alkenoate and 2-alkyl-2-alkenoic acid (generic); and (P-13-619) Alkanedioic acid, polymer with alkyl alkylalkenoate, alkanedioic acid, alkanediol, .alpha.-hydro-.omega.-hydroxypoly[oxy(alkyl-1,2-alkanediyl)], aromatic diisocyanate, alkyl alkylalkeneoate and alkyl-alkenoic acid (generic).

CAS numbers: Claimed confidential.

1. Public comment: The commenter (identity confidential) had concerns about the respirators listed as NIOSH-certified respirators with an APF of at least 10 meeting the requirements of § 721.63(a)(4):

(A) NIOSH-certified power air-purifying respirator with a hood or helmet and with appropriate gas/vapor (acid gas, organic vapor, or substance specific) cartridges in combination with HEPA filters.

(B) NIOSH-certified continuous flow supplied-air respirator equipped with a loose fitting facepiece, hood, or helmet.

(C) NIOSH-certified negative pressure (demand) supplied-air respirator with a full facepiece.

The commenter argues these listed respirators have, in fact, APFs ranging from 25 to 1,000 and not 10 as required.

1. EPA response: The proposed SNUR would require notification if workers who are reasonably likely to be exposed to the PMN substance by inhalation did not use a NIOSH certified respirator with an APF of at least 10. Workers who are exposed may use respirators with an APF higher than 10. As noted in the response to the comment on P-13-365, isocyanates are known dermal and respiratory sensitizers and known to cause other health effects. Thus, EPA requires respirators to provide protection from all potential exposures. Dermal exposures to isocyanates can also possibly cause respiratory exposures. EPA has modified language in the preamble language to indicate that respirators that provide dermal (face/eyes) protection are required if dermal and/or ocular exposures are likely. Consequently, respirators with a higher APF are also indicated because respirators with an APF of 10 do not provide the desired dermal protection. The respirators listed were examples of respirators that meet the requirements of the SNUR. In the proposed regulatory text, EPA has now also included a respirator that has an APF of 10 and does not protect against dermal or ocular exposures for scenarios where neither dermal nor ocular exposures are likely: NIOSH-certified air-purifying half-mask respirator equipped with appropriate gas/vapor cartridges in combination with N100, R100, or P100 filters or an appropriate canister incorporating N100, R100, or P100 filters.

2. Public comment: The same commenter provided data that shows that diphenylmethane diisocyanate (MDI), “spills when modeled reached the [threshold limit value] TLV concentration 3.8 ft at 38 C (after) 10 h had elapsed (and) the [permissible exposure limit] PEL at 38 C reached 2.2 ft after 10h,” and that “MDI diffuses slowly from the spill and remains close to the surface of the spill.” The commenter concludes, “It appears unlikely that respiratory protection would be required to prevent excessive employee exposure to MDI vapors emitted from the spill.” The commenter contends the use of this data as a surrogate for P-13-617, P-13-618, and P-13-619 is conservative because the average molecular weight of the individual PMNs is much larger than the 4-4′-MDI used in this data.

2. EPA response: EPA acknowledges that this could be the type of data used to determine if a worker is reasonably likely to be exposed to the PMN substance. However, it does not address every scenario where workers are reasonably likely to be exposed. EPA is proposing the SNUR to use the notice and comment process to receive and evaluate more fully the described data. EPA will then respond to this comment in more detail in the final rule along with any additional comments on this topic that are received during the notice and comment process.

Basis for action: The PMN states that the generic (non-confidential) use of the substances will be as an adhesive. Based on test data on analogous diisocyanates, EPA identified concerns for dermal and respiratory sensitization. For the use described in the PMN, EPA does not expect significant occupational or any consumer inhalation exposure as the substances are not applied using a method that generates a vapor, mist, or aerosol, nor are they used in a consumer product. Therefore, EPA has not determined that the proposed manufacturing, processing, or use of the substances may present an unreasonable risk. EPA has determined, however, that any use of the substance without a NIOSH-certified particulate respirator (with eye/face protection, when dermal and/or ocular exposure is likely) with an APF of at least 10, where there is a potential for inhalation exposure; any use in consumer products; or any use of the substances involving an application method that generates a vapor, mist, or aerosol may cause serious health effects. Based on this information, the PMN substances meet the concern criteria at § 721.170(b)(3)(ii).

Recommended testing: EPA has determined that the results of a skin sensitization test (OPPTS Test Guideline 870.2600) and a 90-day inhalation toxicity test (OPPTS Test Guideline 870.3465) would help characterize the human health effects of the PMN substances.

CFR citation: 40 CFR 721.10742 (P-13-617); 40 CFR 721.10743 (P-03-618) and 40 CFR 721.10744 (P-13-619).

PMN Number P-14-60

Chemical name: 1,1′-methylenebis[isocyanatobenzene], polymer with polycarboxylic acids in alkane polyols (generic).

CAS number: Claimed confidential.

Public comment: A notice of intent to adversely comment has been submitted.

EPA response: EPA awaits the adverse comment during the open comment period for this notice of proposed rule-making.

Basis for action: The PMN states that the generic (non-confidential) use of the substance will be as a coating component. Based on test data on analogous diisocyanates, EPA identified concerns for dermal and respiratory sensitization. As described in the PMN, worker exposure will be minimal due to the use of adequate personal protective equipment, and EPA does not expect consumer exposure as the substance is not used in a consumer product. Therefore, EPA has not determined that the proposed manufacturing, processing, or use of the substance may present an unreasonable risk. EPA has determined, however, that any use of the substance without a NIOSH-certified particulate respirator (with eye/face protection, when dermal and/or ocular exposure is likely) with an APF of at least 10, where there is a potential for inhalation exposure or any use of the substance in consumer products may cause serious health effects. Based on this information, the PMN substance meets the concern criteria at § 721.170(b)(3)(ii).

Recommended testing: EPA has determined that the results of a skin sensitization test (OPPTS Test Guideline 870.2600) and a 90-day inhalation toxicity test (OPPTS Test Guideline 870.3465) would help characterize the human health effects of the PMN substance.

CFR citation: 40 CFR 721.10762.

PMN Numbers P-14-267 and P-14-268

Chemical name: (P-14-267) Poly(oxy-1,2-ethanediyl), -[ [ (3-isocyanatomethylphenyl)amino]carbonyl]—methoxy- and (P-14-268) Carbamic acid, N-(3-isoocyanatomethylphenyl)-, 2-[2-(2-butoxyethoxy)ethoxy]ethyl ester.

CAS numbers: (P-14-267) 51247-55-3 and (P-14-268) 304855-14-9.

Basis for action: The PMNs state that the generic (non-confidential) use of the substances will be as an intermediate. Based on test data on analogous isocyanates, EPA identified concerns for respiratory and dermal sensitization, and lung and mucous membrane irritation. In addition, the Agency identified concerns for oncogenicity and mutagenicity based on analog test data. For the use described in the PMNs, EPA does not expect significant occupational dermal or inhalation exposure, and does not expect consumer exposure as the PMNs are not used in consumer products. Therefore, EPA has not determined that the proposed manufacturing, processing, or use of the substances may present an unreasonable risk. EPA has determined, however, that any use of the substance without a NIOSH-certified particulate respirator (with eye/face protection, when dermal and/or ocular exposure is likely) with an APF of at least 10, where there is a potential for inhalation exposure; any use in consumer products; or any use of the substances involving an application method that generates a vapor, mist, or aerosol may cause serious health effects. Based on this information, the PMN substances meet the concern criteria at § 721.170(b)(1)(i)(C) and (b)(3)(ii).

Recommended testing: EPA has determined that the results of a skin sensitization test (OPPTS Test Guideline 870.2600), a 90-day inhalation toxicity test (OPPTS Test Guideline 870.3465), and a carcinogenicity test (OPPTS Test Guideline 870.4200) would help characterize the human health effects of the PMN substance.

CFR citation: 40 CFR 721.10790 (P-14-267) and 40 CFR 721.10791 (P-14-268).

PMN Number P-14-478

Chemical name: Carbonic acid, dimethyl ester, polymer with 1,4-diisocyanatobenzene, 1,6-hexanediol and 1,5-pentanediol.

CAS numbers: 1558862-08-0.

Basis for action: The PMN states that the substance will be used to make thermoplastic polyurethanes. Based on test data on analogous diisocyanates, EPA identified concerns for lung effects and irritation to mucous membranes, and for respiratory and dermal sensitization. As described in the PMN, EPA does not expect significant occupational dermal or inhalation exposure due to use of adequate personal protective equipment; and the substance is applied by a method that does not generate a vapor, mist, or aerosol. Further, consumer exposures are not expected as the PMN substance is not used in consumer products. Therefore, EPA has not determined that the proposed manufacturing, processing, or use of the substance may present an unreasonable risk. EPA has determined, however, that any use of the substance without a NIOSH-certified particulate respirator (with eye/face protection, when dermal and/or ocular exposure is likely) with an APF of at least 10, where there is a potential for inhalation exposure; any use of the substance involving an application method that generates a vapor, mist, or aerosol; or any use in consumer products may cause serious health effects. Based on this information, the PMN substance meets the concern criteria at § 721.170(b)(3)(ii).

Recommended testing: EPA has determined that the results of a skin sensitization test (OPPTS Test Guideline 870.2600) and a 90-day inhalation toxicity test (OPPTS Test Guideline 870.3465) would help characterize the human health effects of the PMN substance.

CFR Citation: 40 CFR 721.10792.

V. Rationale and Objectives of the Proposed Rule

A. Rationale

For these 13 PMNs subject to these proposed SNURs, EPA determined that one or more of the criteria of concern established at 40 CFR 721.170 were met. For additional discussion of the rationale for the SNURs on these chemical substances, see Units II. and IV. of the proposed rule.

B. Objectives

EPA is proposing these SNURs for specific chemical substances that have undergone premanufacture review because the Agency wants to achieve the following objectives with regard to the significant new uses designated in this proposed rule:

• EPA will receive notice of any person's intent to manufacture or process a listed chemical substance for the described significant new use before that activity begins.

• EPA will have an opportunity to review and evaluate data submitted in a SNUN before the notice submitter begins manufacturing or processing a listed chemical substance for the described significant new use.

• EPA will be able to regulate prospective manufacturers or processors of a listed chemical substance before the described significant new use of that chemical substance occurs, provided that regulation is warranted pursuant to TSCA section 5(e), 5(f), 6, or 7.

• EPA will ensure that all manufacturers and processors of the same chemical substance that is subject to a TSCA section 5(e) consent order are subject to similar requirements.

Issuance of a SNUR for a chemical substance does not signify that the chemical substance is listed on the TSCA Inventory. Guidance on how to determine if a chemical substance is on the TSCA Inventory is available on the Internet at http://www.epa.gov/opptintr/existingchemicals/pubs/tscainventory/index.html.

VI. Applicability of the Proposed Rule to Uses Occurring Before the Effective Date of the Final Rule

To establish a significant “new” use, EPA must determine that the use is not ongoing. The chemical substances subject to this proposed rule have undergone premanufacture review. In cases where EPA has not received a notice of commencement (NOC) and the chemical substance has not been added to the TSCA Inventory, no other person may commence such activities without first submitting a PMN. Therefore, for chemical substances for which an NOC has not been submitted EPA concludes that the designated significant new uses are not ongoing.

When chemical substances identified in this proposed rule are added to the TSCA Inventory, EPA recognizes that, before the rule is effective, other persons might engage in a use that has been identified as a significant new use. The identities for 10 of the 13 chemical substances subject to this proposed rule have been claimed as confidential and EPA has received no post-PMN bona fide submissions (per 40 CFR 720.25 and § 721.11). Based on this, the Agency believes that it is highly unlikely that any of the significant new uses described in the regulatory text of this proposed rule are ongoing.

Therefore, EPA designates January 7, 2015 as the cutoff date for determining whether the new use is ongoing. Persons who begin commercial manufacture or processing of the chemical substances for a significant new use identified as of that date would have to cease any such activity upon the effective date of the final rule. To resume their activities, these persons would have to first comply with all applicable SNUR notification requirements and wait until the notice review period, including any extensions, expires. If such a person met the conditions of advance compliance under § 721.45(h), the person would be considered exempt from the requirements of the SNUR. Consult the Federal Register document of April 24, 1990 (55 FR 17376) for a more detailed discussion of the cutoff date for ongoing uses.

VII. Test Data and Other Information

EPA recognizes that TSCA section 5 does not require developing any particular test data before submission of a SNUN. The two exceptions are:

1. Development of test data is required where the chemical substance subject to the SNUR is also subject to a test rule under TSCA section 4 (see TSCA section 5(b)(1)).

2. Development of test data may be necessary where the chemical substance has been listed under TSCA section 5(b)(4) (see TSCA section 5(b)(2)).

In the absence of a TSCA section 4 test rule or a TSCA section 5(b)(4) listing covering the chemical substance, persons are required only to submit test data in their possession or control and to describe any other data known to or reasonably ascertainable by them (see 40 CFR 720.50). However, upon review of PMNs and SNUNs, the Agency has the authority to require appropriate testing. Descriptions of tests are provided for informational purposes. EPA strongly encourages persons, before performing any testing, to consult with the Agency pertaining to protocol selection. To access the OCSPP test guidelines referenced in this document electronically, please go to http://www.epa.gov/ocspp and select “Test Methods and Guidelines.” The OECD test guidelines are available from the OECD Bookshop at http://www.oecdbookshop.org or sourceoecd at http://www.sourceoecd.org.

The recommended tests specified in Unit IV. may not be the only means of addressing the potential risks of the chemical substance. However, submitting a SNUN without any test data may increase the likelihood that EPA will take action under TSCA section 5(e), particularly if satisfactory test results have not been obtained from a prior PMN or SNUN submitter. EPA recommends that potential SNUN submitters contact EPA early enough so that they will be able to conduct the appropriate tests.

SNUN submitters should be aware that EPA will be better able to evaluate SNUNs which provide detailed information on the following:

• Human exposure and environmental release that may result from the significant new use of the chemical substances.

• Potential benefits of the chemical substances.

• Information on risks posed by the chemical substances compared to risks posed by potential substitutes.

VIII. SNUN Submissions

According to § 721.1(c), persons submitting a SNUN must comply with the same notice requirements and EPA regulatory procedures as persons submitting a PMN, including submission of test data on health and environmental effects as described in 40 CFR 720.50. SNUNs must be submitted on EPA Form No. 7710-25, generated using e-PMN software, and submitted to the Agency in accordance with the procedures set forth in 40 CFR 720.40 and § 721.25. E-PMN software is available electronically at http:// www.epa.gov/opptintr/newchems.

IX. Economic Analysis

EPA has evaluated the potential costs of establishing SNUN requirements for potential manufacturers and processors of the chemical substances which were the subject of PMNs P-13-270, P-13-365, P-13-392, P-13-393, P-13-471, P-13-563, P-13-617, P-13-618, P-13-619, and P-14-60, during the development of the direct final rules. EPA's complete economic analyses associated with these ten PMNs are available in the docket under docket ID numbers EPA-HQ-OPPT-2013-0739, EPA-HQ-OPPT-2014-0166, and EPA-HQ-OPPT-2014-0277. EPA has evaluated the potential costs of establishing SNUN requirements for potential manufacturers and processors of the chemical substances which were the subject of PMNs P-14-267, P-14-268, and P-14-478. EPA's complete economic analysis associated with these three PMNs is available in the docket under docket ID number EPA-HQ-OPPT-2014-0760.

X. Statutory and Executive Order Reviews

A. Executive Order 12866

This proposed rule would establish SNURs for 13 chemical substances that were the subject of PMNs and a TSCA section 5(e) consent order. The Office of Management and Budget (OMB) has exempted these types of actions from review under Executive Order 12866, entitled “Regulatory Planning and Review” (58 FR 51735, October 4, 1993).

B. Paperwork Reduction Act (PRA)

According to PRA, 44 U.S.C. 3501 et seq., an Agency may not conduct or sponsor, and a person is not required to respond to a collection of information that requires OMB approval under PRA, unless it has been approved by OMB and displays a currently valid OMB control number. The OMB control numbers for EPA's regulations in title 40 of the CFR, after appearing in the Federal Register, are listed in 40 CFR part 9, and included on the related collection instrument or form, if applicable.

The information collection requirements related to this action have already been approved by OMB pursuant to PRA under OMB control number 2070-0012 (EPA ICR No. 574). This action would not impose any burden requiring additional OMB approval. If an entity were to submit a SNUN to the Agency, the annual burden is estimated to average between 30 and 170 hours per response. This burden estimate includes the time needed to review instructions, search existing data sources, gather and maintain the data needed, and complete, review, and submit the required SNUN.

Send any comments about the accuracy of the burden estimate, and any suggested methods for minimizing respondent burden, including through the use of automated collection techniques, to the Director, Collection Strategies Division, Office of Environmental Information (2822T), Environmental Protection Agency, 1200 Pennsylvania Ave. NW., Washington, DC 20460-0001. Please remember to include the OMB control number in any correspondence, but do not submit any completed forms to this address.

C. Regulatory Flexibility Act (RFA)

On February 18, 2012, EPA certified pursuant to RFA section 605(b) (5 U.S.C. 601 et seq.), that promulgation of a SNUR does not have a significant economic impact on a substantial number of small entities where the following are true:

1. A significant number of SNUNs would not be submitted by small entities in response to the SNUR.

2. The SNUR submitted by any small entity would not cost significantly more than $8,300.

A copy of that certification is available in the docket for this proposed rule.

This proposed rule is within the scope of the February 18, 2012 certification. Based on the Economic Analysis discussed in Unit IX., and EPA's experience promulgating SNURs (discussed in the certification), EPA believes that the following are true:

• A significant number of SNUNs would not be submitted by small entities in response to the SNUR.

• Submission of the SNUN would not cost any small entity significantly more than $8,300.

Therefore, the promulgation of these SNURs would not have a significant economic impact on a substantial number of small entities.

D. Unfunded Mandates Reform Act (UMRA)

Based on EPA's experience with proposing and finalizing SNURs, State, local, and Tribal governments have not been impacted by these rulemakings, and EPA does not have any reasons to believe that any State, local, or Tribal government would be impacted by this proposed rule. As such, EPA has determined that this proposed rule would not impose any enforceable duty, contain any unfunded mandate, or otherwise have any effect on small governments subject to the requirements of UMRA sections 202, 203, 204, or 205 (2 U.S.C. 1501 et seq.).

E. Executive Order 13132

This action would not have a substantial direct effect on States, on the relationship between the national government and the States, or on the distribution of power and responsibilities among the various levels of government, as specified in Executive Order 13132, entitled “Federalism” (64 FR 43255, August 10, 1999).

F. Executive Order 13175

This proposed rule would not have Tribal implications because it is not expected to have substantial direct effects on Indian Tribes. This proposed rule would not significantly nor uniquely affect the communities of Indian Tribal governments, nor would it involve or impose any requirements that affect Indian Tribes. Accordingly, the requirements of Executive Order 13175, entitled “Consultation and Coordination with Indian Tribal Governments” (65 FR 67249, November 9, 2000), do not apply to this proposed rule.

G. Executive Order 13045

This action is not subject to Executive Order 13045, entitled “Protection of Children from Environmental Health Risks and Safety Risks” (62 FR 19885, April 23, 1997), because this is not an economically significant regulatory action as defined by Executive Order 12866, and this action does not address environmental health or safety risks disproportionately affecting children.

H. Executive Order 13211

This proposed rule is not subject to Executive Order 13211, entitled “Actions Concerning Regulations That Significantly Affect Energy Supply, Distribution, or Use” (66 FR 28355, May 22, 2001), because this action is not expected to affect energy supply, distribution, or use and because this action is not a significant regulatory action under Executive Order 12866.

I. National Technology Transfer and Advancement Act (NTTAA)

In addition, since this action would not involve any technical standards, NTTAA section 12(d) (15 U.S.C. 272 note), would not apply to this action.

J. Executive Order 12898

This action does not entail special considerations of environmental justice related issues as delineated by Executive Order 12898, entitled “Federal Actions to Address Environmental Justice in Minority Populations and Low-Income Populations” (59 FR 7629, February 16, 1994).

List of Subjects

40 CFR Part 721

Environmental protection, Chemicals, Hazardous substances, Reporting and recordkeeping requirements.

Dated: December 20, 2014.
Maria J. Doa,
Director, Chemical Control Division, Office of Pollution Prevention and Toxics.

Therefore, it is proposed that 40 CFR chapter I be amended as follows:

PART 721—[AMENDED]

1. The authority citation for part 721 continues to read as follows:

Authority: 15 U.S.C. 2604, 2607, and 2625(c).

2. Add § 721.10735 to subpart E to read as follows:

§ 721.10735 Aromatic dibenzoate (generic).

(a) Chemical substance and significant new uses subject to reporting. (1) The chemical substance identified generically as aromatic dibenzoate (PMN P-13-270) is subject to reporting under this section for the significant new uses described in paragraph (a)(2) of this section.

(2) The significant new uses are:

(i) Releases to water. Requirements as specified in § 721.90(a)(4), (b)(4), and (c)(4) (N=1).

(ii) [Reserved]

(b) Specific requirements. The provisions of subpart A of this part apply to this section except as modified by this paragraph.

(1) Recordkeeping. Recordkeeping requirements as specified in § 721.125(a), (b), (c), and (k) are applicable to manufacturers and processors of this substance.

(2) Limitations or revocation of certain notification requirements. The provisions of § 721.185 apply to this section.

3. Add § 721.10717 to subpart E to read as follows:

§ 721.10717 MDI modified polyalkene glycols (generic).

(a) Chemical substance and significant new uses subject to reporting. (1) The chemical substance identified generically as MDI modified polyalkene glycols (PMN P-13-365) is subject to reporting under this section for the significant new uses described in paragraph (a)(2) of this section.

(2) The significant new uses are:

(i) Protection in the workplace. Requirements as specified in § 721.63(a)(4), (a)(6)(ii) and (a)(6)(v), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an assigned protection factor (APF) of at least 10 meet the requirements of § 721.63(a)(4):

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o) and (y)(1).

(b) Specific requirements. The provisions of subpart A of this part apply to this section except as modified by this paragraph.

(1) Recordkeeping. Recordkeeping requirements as specified in § 721.125(a), (b), (c), (d), and (i) are applicable to manufacturers and processors of this substance.

(2) Limitations or revocation of certain notification requirements. The provisions of § 721.185 apply to this section.

4. Add § 721.10719 to subpart E to read as follows:

§ 721.10719 Acrylic acid esters polymers, reaction products with polyisocyanate (generic).

(a) Chemical substance and significant new uses subject to reporting. (1) The chemical substance identified generically as acrylic acid esters polymers, reaction products with polyisocyanate (PMN P-13-392) is subject to reporting under this section for the significant new uses described in paragraph (a)(2) of this section.

(2) The significant new uses are:

(i) Protection in the workplace. Requirements as specified in § 721.63(a)(4), (a)(6)(ii), (a)(6)(v), and (c). When determining which persons are reasonably likely to be exposed as required for § 721.63(a)(4), engineering control measures (e.g., enclosure or confinement of the operation, general and local ventilation) or administrative control measures (e.g., workplace policies and procedures) shall be considered and implemented to prevent exposure, where feasible. The following NIOSH-certified respirators with an APF of at least 10 meet the requirements of § 721.63(a)(4):

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o).

(b) Specific requirements. The provisions of subpart A of this part apply to this section except as modified by this paragraph.

(1) Recordkeeping. Recordkeeping requirements as specified in § 721.125(a), (b), (c), (d) and (i) are applicable to manufacturers and processors of this substance.

(2) Limitations or revocation of certain notification requirements. The provisions of § 721.185 apply to this section.

5. Add § 721.10720 to subpart E to read as follows:

§ 721.10720 1,3-Benzenedicarboxylic acid, polymer with 1,4-benzenedicarboxylic acid, 1,4-dimethyl 1,4-benzenedicarboxylate, 2,2-dimethyl-1,3-propanediol, dodecanedioic acid, 1,2-ethanediol, hexanedioic acid, 1,6-hexanediol, alkyldiol ester and aromatic isocyanate (generic).

(a) Chemical substance and significant new uses subject to reporting. (1) The chemical substance identified generically as 1,3-Benzenedicarboxylic acid, polymer with 1,4-benzenedicarboxylic acid, 1,4-dimethyl 1,4-benzenedicarboxylate, 2,2-dimethyl-1,3-propanediol,dodecanedioic acid, 1,2-ethanediol, hexanedioic acid, 1,6-hexanediol, alkyldiol ester and aromatic isocyanate (PMN P-13-393) is subject to reporting under this section for the significant new uses described in paragraph (a)(2) of this section.

(2) The significant new uses are:

(i) Protection in the workplace. Requirements as specified in § 721.63 (a)(4), (a)(6)(ii), (a)(6)(v), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an assigned protection factor (APF) of at least 10 meet the requirements of § 721.63(a)(4):

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o) and (y)(1).

(b) Specific requirements. The provisions of subpart A of this part apply to this section except as modified by this paragraph.

(1) Recordkeeping. Recordkeeping requirements as specified in § 721.125(a), (b), (c), (d), and (i) are applicable to manufacturers and processors of this substance.

(2) Limitations or revocation of certain notification requirements. The provisions of § 721.185 apply to this section.

6. Add § 721.10723 to subpart E to read as follows:

§ 721.10723 Methylene diisocyanate polymer with polypropylene glycol and diols (generic).

(a) Chemical substance and significant new uses subject to reporting. (1) The chemical substance identified generically as methylene diisocyanate polymer with polypropylene glycol and diols (PMN P-13-471) is subject to reporting under this section for the significant new uses described in paragraph (a)(2) of this section.

(2) The significant new uses are:

(i) Protection in the workplace. Requirements as specified in § 721.63(a)(4), (a)(6)(i), (a)(6)(ii), (a)(6)(v), and (c). When determining which persons are reasonably likely to be exposed as required for § 721.63(a)(4), engineering control measures (e.g., enclosure or confinement of the operation, general and local ventilation) or administrative control measures (e.g., workplace policies and procedures) shall be considered and implemented to prevent exposure, where feasible. The following NIOSH-certified respirators with an APF of at least 10 meet the requirements of § 721.63(a)(4).

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o).

(b) Specific requirements. The provisions of subpart A of this part apply to this section except as modified by this paragraph.

(1) Recordkeeping. Recordkeeping requirements as specified in § 721.125(a), (b), (c), (d), and (i) are applicable to manufacturers and processors of this substance.

(2) Limitations or revocation of certain notification requirements. The provisions of § 721.185 apply to this section.

7. Add § 721.10741 to subpart E to read as follows:

§ 721.10741 Polyalkylene glycol, alpha isocyanate, omega silane (generic).

(a) Chemical substance and significant new uses subject to reporting. (1) The chemical substance identified generically as polyalkylene glycol, alpha isocyanate, omega silane (PMN P-13-563) is subject to reporting under this section for the significant new uses described in paragraph (a)(2) of this section.

(2) The significant new uses are:

(i) Protection in the workplace. Requirements as specified in § 721.63(a)(4), (a)(6)(ii), (a)(6)(v), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an assigned protection factor (APF) of at least 10 meet the requirements of § 721.63(a)(4).

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(g) and (o).

(b) Specific requirements. The provisions of subpart A of this part apply to this section except as modified by this paragraph.

(1) Recordkeeping. Recordkeeping requirements as specified in § 721.125(a), (b), (c), (d), and (i) are applicable to manufacturers and processors of this substance.

(2) Limitations or revocation of certain notification requirements. The provisions of § 721.185 apply to this section.

8. Add § 721.10742 to subpart E to read as follows:

§ 721.10742 Aromatic dicarboxylic acid polymer with alkanediol, alkyl alkyl-2-alkenoate, 1,4-dialkyl aromatic dicarboxylate, alkanedioic acid, alkanedioic acid.alkanediol, .alpha.-hydro-.omega.-hydroxypoly[oxy(alkyl-alkanediyl)], hydroxyalkyl 2-alkyl-2-alkenoate, aromatic diisocyanate, alkyl 2-alkyl-2-alkenoate and 2-alkyl-2-alkenoic acid (generic).

(a) Chemical substance and significant new uses subject to reporting. (1) The chemical substance identified generically as aromatic dicarboxylic acid polymer with alkanediol, alkyl alkyl-2-alkenoate, 1,4-dialkyl aromatic dicarboxylate, alkanedioic acid, alkanedioic acid. alkanediol, .alpha.-hydro-.omega.-hydroxypoly[oxy(alkyl-alkanediyl)], hydroxyalkyl 2-alkyl-2-alkenoate, aromatic diisocyanate, alkyl 2-alkyl-2-alkenoate and 2-alkyl-2-alkenoic acid (PMN P-13-617) is subject to reporting under this section for the significant new uses described in paragraph (a)(2) of this section.

(2) The significant new uses are:

(i) Protection in the workplace. Requirements as specified in § 721.63(a)(4), (a)(6)(ii), (a)(6)(v), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an assigned protection factor (APF) of at least 10 meet the requirements of § 721.63(a)(4).

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o) and (y)(1).

(b) Specific requirements. The provisions of subpart A of this part apply to this section except as modified by this paragraph.

(1) Recordkeeping. Recordkeeping requirements as specified in § 721.125(a), (b), (c), (d), and (i) are applicable to manufacturers and processors of this substance.

(2) Limitations or revocation of certain notification requirements. The provisions of § 721.185 apply to this section.

9. Add § 721.10743 to subpart E to read as follows:

§ 721.10743 Alkanedioic acid, polymer with alkyl 2-alkyl-2-alkenoate, alkanedioic acid, alkanediol, .alpha.-hydro-.omega.-hydroxypoly[oxy(alkyl-1 2-alkanediyl)], hydroxyalkyl 2-alkyl-2-alkenoate, aromatic diisocyanate, alkyl 2-alkyl-2-alkenoate and 2-alkyl-2-alkenoic acid (generic).

(a) Chemical substance and significant new uses subject to reporting. (1) The chemical substance identified generically as alkanedioic acid, polymer with alkyl 2-alkyl- 2-alkenoate, alkanedioic acid, alkanediol, .alpha.-hydro-.omega.-hydroxypoly[oxy(alkyl-1 2-alkanediyl)], hydroxyalkyl 2-alkyl-2-alkenoate, aromatic diisocyanate, alkyl 2-alkyl-2-alkenoate and 2-alkyl-2-alkenoic acid (PMN P-13-618) is subject to reporting under this section for the significant new uses described in paragraph (a)(2) of this section.

(2) The significant new uses are:

(i) Protection in the workplace. Requirements as specified in § 721.63(a)(4), (a)(6)(ii), (a)(6)(v), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an assigned protection factor (APF) of at least 10 meet the requirements of § 721.63(a)(4).

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o) and (y)(1).

(b) Specific requirements. The provisions of subpart A of this part apply to this section except as modified by this paragraph.

(1) Recordkeeping. Recordkeeping requirements as specified in § 721.125(a), (b), (c), (d), and (i) are applicable to manufacturers and processors of this substance.

(2) Limitations or revocation of certain notification requirements. The provisions of § 721.185 apply to this section.

10. Add § 721.10744 to subpart E to read as follows:

§ 721.10744 Alkanedioic acid, polymer with alkyl alkyl-alkenoate, alkanedioic acid, alkanediol, .alpha.-hydro-.omega.-hydroxypoly[oxy(alkyl-1,2-alkanediyl)], aromatic diisocyanate, alkyl alkyl-alkeneoate and alkyl-alkenoic acid (generic).

(a) Chemical substance and significant new uses subject to reporting. (1) The chemical substance identified generically as alkanedioic acid, polymer with alkyl alkylalkenoate, alkanedioic acid, alkanediol, .alpha.-hydro-.omega.- hydroxypoly[oxy(alkyl- 1,2-alkanediyl)], aromatic diisocyanate, alkyl alkyl-alkeneoate and alkyl-alkenoic acid (PMN P-13-619) is subject to reporting under this section for the significant new uses described in paragraph (a)(2) of this section.

(2) The significant new uses are:

(i) Protection in the workplace. Requirements as specified in § 721.63(a)(4), (a)(6)(ii), (a)(6)(v), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an assigned protection factor (APF) of at least 10 meet the requirements of § 721.63(a)(4).

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o) and (y)(1).

(b) Specific requirements. The provisions of subpart A of this part apply to this section except as modified by this paragraph.

(1) Recordkeeping. Recordkeeping requirements as specified in § 721.125(a), (b), (c), (d), and (i) are applicable to manufacturers and processors of this substance.

(2) Limitations or revocation of certain notification requirements. The provisions of § 721.185 apply to this section.

11. Add § 721.10762 to subpart E to read as follows:

§ 721.10762 1,1′-methylenebis[isocyanatobenzene], polymer with polycarboxylic acids in alkane polyols (generic).

(a) Chemical substance and significant new uses subject to reporting. (1) The chemical substance identified generically as 1,1′-methylenebis[isocyanatobenzene], polymer with polycarboxylic acids in alkane polyols (PMN P-14-60) is subject to reporting under this section for the significant new uses described in paragraph (a)(2) of this section.

(2) The significant new uses are:

(i) Protection in the workplace. Requirements as specified in § 721.63(a)(4), (a)(6)(i) through (a)(6)(iv), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an assigned protection factor (APF) of at least 10 meet the requirements of § 721.63(a)(4).

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o).

(b) Specific requirements. The provisions of subpart A of this part apply to this section except as modified by this paragraph.

(1) Recordkeeping. Recordkeeping requirements as specified in § 721.125(a), (b), (c), (d), and (i) are applicable to manufacturers and processors of this substance.

(2) Limitations or revocation of certain notification requirements. The provisions of § 721.185 apply to this section.

12. Add § 721.10790 to subpart E to read as follows:

§ 721.10790 Poly(oxy-1,2-ethanediyl), -[ [ (3-isocyanatomethylphenyl)amino]carbonyl]—methoxy-.

(a) Chemical substance and significant new uses subject to reporting. (1) The chemical substance identified as poly(oxy-1,2-ethanediyl), -[ [ (3-isocyanatomethylphenyl)amino]carbonyl]—methoxy- (PMN P-14-267; CAS No. 51247-55-3) is subject to reporting under this section for the significant new uses described in paragraph (a)(2) of this section.

(2) The significant new uses are:

(i) Protection in the workplace. Requirements as specified in § 721.63(a)(4), (a)(6)(ii), (a)(6)(v), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an assigned protection factor (APF) of at least 10 meet the requirements of § 721.63(a)(4):

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o) and (y)(1).

(b) Specific requirements. The provisions of subpart A of this part apply to this section except as modified by this paragraph.

(1) Recordkeeping. Recordkeeping requirements as specified in § 721.125 (a), (b), (c), (d) and (i) are applicable to manufacturers and processors of this substance.

(2) Limitations or revocation of certain notification requirements. The provisions of § 721.185 apply to this section.

CFR citation: 40 CFR 721.10790.

13. Add § 721.10791 to subpart E to read as follows:

§ 721.10791 Carbamic acid, N-(3-isoocyanatomethylphenyl)-, 2-[2-(2-butoxyethoxy)ethoxy]ethyl ester.

(a) Chemical substance and significant new uses subject to reporting. (1) The chemical substance identified as carbamic acid, N-(3-isoocyanatomethylphenyl)-, 2-[2-(2-butoxyethoxy)ethoxy]ethyl ester (PMN P-14-268; CAS No. 304855-14-9) is subject to reporting under this section for the significant new uses described in paragraph (a)(2) of this section.

(2) The significant new uses are:

(i) Protection in the workplace. Requirements as specified in § 721.63(a)(4), (a)(6)(ii), (a)(6)(v), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an assigned protection factor (APF) of at least 10 meet the requirements of § 721.63(a)(4).

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o) and (y)(1).

(b) Specific requirements. The provisions of subpart A of this part apply to this section except as modified by this paragraph.

(1) Recordkeeping. Recordkeeping requirements as specified in § 721.125 (a), (b), (c), (d) and (i) are applicable to manufacturers and processors of this substance.

(2) Limitations or revocation of certain notification requirements. The provisions of § 721.185 apply to this section.

14. Add § 721.10792 to subpart E to read as follows:

§ 721.10792 Carbonic acid, dimethyl ester, polymer with 1,4-diisocyanatobenzene, 1,6-hexanediol and 1,5-pentanediol.

(a) Chemical substance and significant new uses subject to reporting. (1) The chemical substance identified as carbonic acid, dimethyl ester, polymer with 1,4-diisocyanatobenzene, 1,6-hexanediol and 1,5-pentanediol (PMN P-14-478; CAS No. 1558862-08-0) is subject to reporting under this section for the significant new uses described in paragraph (a)(2) of this section.

(2) The significant new uses are:

(i) Protection in the workplace. Requirements as specified in § 721.63(a)(4), (a)(6)(i), (a)(6)(ii), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an assigned protection factor (APF) of at least 10 meet the requirements of § 721.63(a)(4).

(A) NIOSH-certified air-purifying half-mask respirator equipped with appropriate gas/vapor cartridges in combination with N100, R100, or P100 filters or an appropriate canister incorporating N100, R100, or P100 filters (for scenarios where neither dermal nor ocular exposure is likely).

(B) NIOSH-certified power air- purifying respirator with a hood or helmet and with appropriate gas/vapor (acid gas, organic vapor, or substance specific) cartridges in combination with HEPA filters (for scenarios where dermal and/or ocular exposure is also likely).

(C) NIOSH-certified continuous flow supplied-air respirator equipped with a loose fitting facepiece, hood, or helmet (for scenarios where dermal and/or ocular exposure is also likely).

(D) NIOSH-certified negative pressure (demand) supplied-air respirator with a full facepiece (for scenarios where dermal and/or ocular exposure is also likely).

(ii) Industrial, commercial, and consumer activities. Requirements as specified in § 721.80(o) and (y)(1).

(b) Specific requirements. The provisions of subpart A of this part apply to this section except as modified by this paragraph.

(1) Recordkeeping. Recordkeeping requirements as specified in § 721.125 (a), (b), (c), (d) and (i) are applicable to manufacturers and processors of this substance.

(2) Limitations or revocation of certain notification requirements. The provisions of § 721.185 apply to this section.

[FR Doc. 2014-30829 Filed 1-6-15; 8:45 am]

BILLING CODE 6560-50-P